DEPARTMENT OF ENERGY

Federal Energy Regulatory Commission

Combined Notice of Filings #1

Take notice that the Commission received the following electric corporate filings:

Docket Numbers: EC12-27-000.

Applicants: Dynegy Danskammer, L.L.C., Dynegy Roseton, L.L.C.

Description: Dynegy Danskammer, L.L.C. and Dynegy Roseton, L.L.C., Application For Approval Under Section 203 of the Federal Power Act and Request for Shortened Notice Period and Expedited Consideration.

Filed Date: 11/08/2011.

Accession Number: 20111108-5156.

Comment Date: 5 p.m. ET on 11/29/2011.

Take notice that the Commission received the following electric rate filings:

Docket Numbers: ER11-3262-005.

Applicants: Trans Bay Cable LLC.

Description: Compliance Filing to Supersede Paper Filing and 4-8 Tariff to be effective 4/8/2011.

Filed Date: 11/08/2011.

Accession Number: 20111108-5041.

Comment Date: 5 p.m. ET on 11/29/2011.

Docket Numbers: ER11-3262-006.

Applicants: Trans Bay Cable LLC.

Description: Compliance Filing to Supersede 6-30 Tariff to be effective 6/30/2011.

Filed Date: 11/08/2011.

Accession Number: 20111108-5042.

Comment Date: 5 p.m. ET on 11/29/2011.

Docket Numbers: ER11-3576-002; ER11-3401-003; ER10-3138-002.

Applicants: Denver City Energy Associates, L.P., Golden Spread Electric Cooperative, Inc., Golden Spread Panhandle Wind Ranch, LLC,GS Electric Generating Cooperative, Inc.

Description: Golden Spread Electric Cooperative, Inc. et al. submits Notice of Change in Status.

Filed Date: 11/08/2011.

Accession Number: 20111108-5154.

Comment Date: 5 p.m. ET on 11/29/2011.

Docket Numbers: ER11-3957-003.

Applicants: Consumers Energy Company.

Description: Amended Facilities Agreement with MPLP to be effective 8/29/2011.

Filed Date: 11/08/2011.

Accession Number: 20111108-5109.

Comment Date: 5 p.m. ET on 11/29/2011.

Docket Numbers: ER11-4374-002.

Applicants: Portland General Electric Company.

Description: Volume 12 Corrected Amendment Filing to be effective 10/24/2011.

Filed Date: 11/08/2011.

Accession Number: 20111108-5076.

Comment Date: 5 p.m. ET on 11/29/2011.

Docket Numbers: ER12-214-001.

Applicants: ALLETE, Inc., Midwest Independent Transmission System Operator, Inc.

Description: 11-08-11 ALLETTE Attachment GG Amendment to be effective 1/1/2012.

Filed Date: 11/08/2011.

Accession Number: 20111108-5117.

Comment Date: 5 p.m. ET on 11/29/2011.

Docket Numbers: ER12-22-001.

Applicants: Endure Energy, L.L.C.

Description: Amendment to pending normal to be effective 11/8/2011.

Filed Date: 11/08/2011.

Accession Number: 20111108-5004.

Comment Date: 5 p.m. ET on 11/29/2011.

Docket Numbers: ER12-361-000.

Applicants: South Carolina Electric & Gas Company.

Description: Compliance filing to docket #ER10-516, ER10-1268, ER10-855 to be effective 11/7/2011.

Filed Date: 11/08/2011.

Accession Number: 20111108-5001.

Comment Date: 5 p.m. ET on 11/29/2011.

Docket Numbers: ER12-362-000.

Applicants: Southern California Edison Company.

Description: LGIA, Pacific Wind Project, Pacific Wind LLC to be effective 11/9/2011.

Filed Date: 11/08/2011.

Accession Number: 20111108-5003.

Comment Date: 5 p.m. ET on 11/29/2011.

Docket Numbers: ER12-363-000.

Applicants: Volunteer Energy Services, Inc.

Description: Baseline refile to be effective 11/8/2011.

Filed Date: 11/08/2011.

Accession Number: 20111108-5038.

Comment Date: 5 p.m. ET on 11/29/2011.

Docket Numbers: ER12-364-000.

Applicants: Rockland Wind Farm LLC.

Description: Compliance Filing to be effective 10/17/2011.

Filed Date: 11/08/2011.

Accession Number: 20111108-5116.

Comment Date: 5 p.m. ET on 11/29/2011.

Docket Numbers: ER12-365-000.

Applicants: Rock Island Clean Line LLC.

Description: Application of Rock Island Clean Line LLC for Authorization to Sell Transmission Services at Negotiated Rates and for Related Relief.

Filed Date: 11/08/2011.

Accession Number: 20111108-5159.

Comment Date: 5 p.m. ET on 11/29/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2011.
Nathaniel J. Davis, Sr.,
Deputy Secretary.

[FR Doc. 2011-30067 Filed 11-21-11; 8:45 am]

BILLING CODE 6717-01-P